DEPARTMENT OF COMMERCE

National Oceanic and Atmospheric Administration

[RTID 0648-XB414]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Subcommittee of the Scientific and Statistical Committee (SSC) will hold an online meeting to review requested analyses exploring scale uncertainty in the new spiny dogfish stock assessment and rebuilding analyses for copper rockfish and quillback rockfish in California.

DATES: The online meeting will be held Wednesday, September 29, 2021, from 1 p.m. to 5 p.m., Pacific Daylight Time (PDT) and Thursday, September 30, 2021, from 8:30 a.m. to 12:30 p.m., PDT.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: John DeVore, Staff Officer, Pacific Council; telephone: (503) 820-2413.

SUPPLEMENTARY INFORMATION: The SSC's Groundfish Subcommittee will review further analyses for a new assessment of spiny dogfish as requested by the Pacific Council at their June 2021 meeting. The SSC Groundfish Subcommittee will also review new rebuilding analyses for copper rockfish in California south of Pt. Conception and quillback rockfish in California. These actions were recommended by the SSC Groundfish Subcommittee at their August 17, 2021 review of these assessments and follows the procedures outlined in the Pacific Council's Terms of Reference for the Groundfish and Coastal Pelagic Species Stock Assessment Review Process for 2021-22. The Groundfish Subcommittee will prepare their recommendations for SSC and Pacific Council consideration at their November 2021 meetings.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 9, 2021.
Tracey L. Thompson,
Acting Deputy Director, Office of Sustainable Fisheries, National Marine Fisheries Service.

[FR Doc. 2021-19791 Filed 9-13-21; 8:45 am]

BILLING CODE 3510-22-P